DEPARTMENT OF THE INTERIOR

Bureau of Land Management

[BLM_HQ_FRN_MO450017325; LHQ260000.L10600000.PC0000. 23X.LXSIADVSBD0000.241A]

Wild Horse and Burro Advisory Board Meeting

AGENCY: Bureau of Land Management, Interior.

ACTION: Notice of public meeting.

SUMMARY: In accordance with the Federal Land Policy and Management Act of 1976 and the Federal Advisory Committee Act of 1972, the U.S. Department of the Interior, Bureau of Land Management (BLM) Wild Horse and Burro Advisory Board (Board) will hold a public meeting.

DATES: The Board will meet in person from June 28-30, 2023; 8 a.m. to 5 p.m. Pacific Time (PT) Wednesday and Thursday and 8 a.m. to Noon on Friday. Also, the BLM will host an educational field tour for the Board, which is open to the public, on June 27 from 8 a.m. to 5 p.m. PT.

ADDRESSES: The Board will meet in person in Reno, Nevada, at the Whitney Peak Hotel in the Whitney Peak ballroom located at 255 N Virginia Street, Reno, NV 89501.

The final agenda will be posted 2 weeks prior to the meeting and can be found on the following website: www.blm.gov/programs/wild-horse-and-burro/get-involved/advisory-board.

Please register to provide verbal public comments or suggestions to the Board regarding the Wild Horse and Burro Program at least 3 days prior to the meeting at www.blm.gov/programs/wild-horse-and-burro/get-involved/advisory-board. The public may file written comments to be presented to the Board by submitting them at least 3 days in advance of the meeting to the following email address at BLM_WO_Advisory_Board_Comments@blm.gov with “Advisory Board Comment” in the subject line of the email.

The field tour will commence and conclude at the Whitney Peak Hotel. Those wishing to attend the field tour should register in advance due to limited space via email to dboothe@blm.gov no later than June 21 by 5 p.m. PT; ensure to bring a high clearance vehicle; and any necessary food, health, and safety items.

FOR FURTHER INFORMATION CONTACT: Dorothea Boothe, Wild Horse and Burro Program Coordinator: telephone: (602) 906-5543, email: dboothe@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board advises the Secretary of the Interior, the BLM Director, the Secretary of Agriculture, and the Chief of the U.S. Forest Service on matters pertaining to the management and protection of wild, free-roaming horses and burros on the Nation's public lands. The Board operates under the authority of 43 CFR 1784.

Advisory Board Meeting Agenda

Tuesday, June 27, 2023

8 a.m. to 5 p.m. PT

Board Educational Field Tour to Nevada Herd Management Area (TBD)

(Open to the public; high clearance vehicle recommended)

Wednesday, June 28, 2023

8 a.m. to 10 a.m. PT

Board FACA/Ethics Training (Administrative; not open to the public)

Break—10 a.m. to 10:15 a.m. PT

Session 1—10:15 a.m. to 11:30 a.m. PT

Meeting Called to Order

Advisory Board Subcommittee on Collaboration with BLM and U.S. Forest Service

BLM Regulations Process

Lunch Break—11:30 a.m. to 1 p.m. PT

Session 2—1 p.m. to 2 p.m. PT

Advisory Board Subcommittee on Comprehensive Ecosystem Approach to Management

Session 3—2 p.m. to 3 p.m. PT

Advisory Board Subcommittee on Humane Treatment and Communication

Break—3 p.m. to 3:15 p.m. PT

Session 4—3:15 p.m. to 4:15 p.m. PT

Public Comment Period (first)

Session 5—4:15 p.m. to 5 p.m. PT

Advisory Board Discussion and Wrap Up

Adjourn

Thursday, June 29, 2023

Session 6—8 a.m. to 9:30 a.m. PT

Meeting Called to Order

Administrative Announcements

Welcome Remarks from BLM Nevada and BLM Nevada Wild Horse and Burro

Program Overview

Approval of Minutes: October 2022

Discussion: BLM and U.S. Forest Service (USFS) Responses to Board

Recommendations from October 2022 Board Meeting

Break—9:30 a.m. to 9:45 a.m. PT

Session 7—9:45 a.m. to noon PT

BLM and U.S. Forest Service Program Updates

Lunch Break—Noon to 1:30 p.m. PT

Session 8—1:30 p.m. to 2:30 p.m. PT

Public Comment Period (second)

Break—2:30 p.m. to 2:45 p.m. PT

Session 9—2:45 p.m. to 5 p.m. PT

Panel Discussion: Drought, Wild Horses and Burros

Discussion: BLM Wild Horse and Burro Program Population Modeling

Adjourn

Friday, June 30, 2023

Session 10—8 a.m. to 9:30 a.m. PT

Advisory Board Subcommittee Discussions and Draft Recommendations

Session 11—9:30 a.m. to 10:30 p.m. PT

Public Comment Period (third)

Session 12—10:30 p.m. to Noon PT

Advisory Board Discussion and Finalize Recommendations (Board vote)

Adjourn

Agenda may be subject to change.

Public Participation: This meeting is open to the public. The public may attend the meeting in person or watch via live stream at www.blm.gov/live. The educational field tour for the Board is also open to the public.

The Board, the BLM, and the USFS welcome comments from all interested parties. Individuals and representatives of organizations who would like to offer comments and suggestions regarding the Wild Horse and Burro Program will have three opportunities to do so either in person or via a Zoom link (audio only) by registering on the BLM website in advance of the meeting. The Board will hear comments on Wednesday, June 28, from 3:15 p.m. to 4:15 p.m. PT, Thursday, June 29, from 1:30 p.m. to 2:30 p.m. PT, and again on Friday, June 30, from 9:30 a.m. to 10:30 a.m. PT. To accommodate all individuals interested in providing comments, please register with the BLM at least 3 days in advance of the meeting. Individuals who have not registered in advance but would like to offer comments will be permitted if time allows. Participants using desktops, laptops, smartphones, and other personal digital devices will be able to participate via audio only via a link provided by the BLM. Those with phone-only access will also be able to participate via a provided phone number and meeting ID that will be provided by the BLM in advance of the meeting when you register. The Board may limit the length of comments, depending on the number of participants who register in advance. Those not able to attend the meeting or who have insufficient time to address the Board may send written comments. Written comments emailed at least 3 days prior to the meeting will be provided to the Board in advance for consideration. Please see the ADDRESSES section earlier for the BLM email address and include “Advisory Board Comment” in the subject line of your email. The BLM will record the entire meeting, including the allotted public comment sessions. Comments should be specific and explain the reason for the recommendation(s). Comments supported by quantitative information, studies, or those that include citations and analysis of applicable laws and regulations are most useful, and more likely to assist the decision-making process for the management and protection of wild horses and burros.

Beyond live captioning, any person(s) with special needs, such as for an auxiliary aid, interpreting service, assistive listening device, or materials in an alternate format, must notify Ms. Boothe 2 weeks before the scheduled meeting date. It is important to adhere to the 2-week notice to allow enough time to arrange for the auxiliary aid or special service. Live captioning will be available throughout the event on the BLM livestream page at www.blm.gov/live.

Before including your address, phone number, email address, or other personal identifying information in your comment, you should be aware that your entire comment—including your personal identifying information—may be made publicly available at any time. While you can ask us in your comment to withhold your personal identifying information from public review, the BLM cannot guarantee that it will be able to do so.

(Authority: 43 CFR 1784.4-2)

Brian St. George,
Designated Federal Officer, Acting Assistant Director, Resources and Planning.

[FR Doc. 2023-11135 Filed 5-24-23; 8:45 am]

BILLING CODE 4331-27-P